DEPARTMENT OF HEALTH AND HUMAN SERVICES

Centers for Disease Control and Prevention

[30 Day-13-12QC]

Agency Forms Undergoing Paperwork Reduction Act Review

The Centers for Disease Control and Prevention (CDC) publishes a list of information collection requests under review by the Office of Management and Budget (OMB) in compliance with the Paperwork Reduction Act (44 U.S.C. chapter 35). To request a copy of these requests, call (404) 639-7570 or send an email to omb@cdc.gov. Send written comments to CDC Desk Officer, Office of Management and Budget, Washington, DC 20503 or by fax to (202) 395-5806. Written comments should be received within 30 days of this notice.

Proposed Project

Costs and Cost Savings of Motor Vehicle Injury Prevention: Evidence-Based Policy and Behavioral Interventions—NEW—National Center for Injury Prevention and Control (NCIPC), Centers for Disease Control and Prevention (CDC).

Background and Brief Description

The Centers for Disease Control and Prevention (CDC) is seeking a 1-year OMB approval to collect information relating to the costs of implementing motor vehicle injury prevention interventions. This information is needed to complete a research study of the costs and costs savings to society of implementing evidence-based interventions. The main product of the study is an online tool that can be used to identify the intervention or sets of interventions that can be implemented in individual states that will provide the “biggest bang for the buck.”

The study focuses on thirteen interventions. These interventions are:

1. Red light camera automated enforcement,

2. Speed camera automated enforcement,

3. Alcohol interlocks,

4. Sobriety checkpoints,

5. Saturation patrols,

6. Bicycle helmet laws for children,

7. High visibility child restraint/booster or seat belt law enforcement,

8. Motorcycle helmet use laws,

9. Primary enforcement of seat belt laws,

10. Limits on diversion and plea agreements,

11. Lower blood alcohol content (BAC) limits for repeat offenders,

12. Vehicle impoundment,

13. and license plate impoundment.

For each intervention, secondary data on the following will be compiled:

1. Effects on fatalities and injury prevention: We have specifically determined fatality and injury reductions for interventions by state, total fatalities and estimated injury rates by state, injury to fatality ratios, and the current laws for each state.

2. Estimated costs associated with motor vehicle injuries and deaths and how costs of similar injuries vary from state to state: We are currently developing state-specific estimates of expected cost savings associated with the reductions in injuries and deaths from each intervention.

3. Costs of implementing each intervention in states: We have developed a matrix of implementation cost categories by interventions and are populating the resultant cells. Implementation cost categories include items such as: cost of creating the legislation, costs for publicity, personnel (e.g., law enforcement, court) time, and equipment purchase, or maintenance cost, jail or prison facility costs.

This Information Collection Request (ICR) is being requested to fill these gaps in information on the costs of implementing interventions. Without this information, the principal product of the research—the online tool—cannot be completed. The value of the information collected via the subject matter interviews and the online Delphi panel is to fill gaps in knowledge for interventions that do not have extensive literature on their costs of implementation. The gaps in evidence relate to implementation cost issues such as the amount of time it takes for police to deal with an incident, paperwork, and court; the amount of court staff time it takes to handle various cases and whether there are costs to the court in particular situations, particularly among DWI cases. We also seek information to complete multiple missing cells pertaining to the costs of implementing lower BAC-Blood Alcohol Content, limits on diversion, and saturation patrols.

Semi-structured interviews will be conducted to collect the necessary information from subject matter experts. An online Delphi panel will be used to collect additional missing information.

The semi-structured interviews will be conducted over the telephone and will last approximately 60 minutes depending on the type of expert. The burden table identifies the total number of respondents per group, the average response burden per semi-structured interview, and the total response burden for the semi-structured interviews.

The total estimated one-time burden for data collection for the following expert respondents are calculated as follows; Public Safety Advocacy Groups = (4 respondents × 1 hour/response); DWI/DUI Defense Attorneys = (4 respondents × 1hour/response); Court Case Managers = (4 respondents × 1 hour/response); State Parole Agencies = (2 respondents × 1hour/response); State Depts. Of Public Safety = (6 respondents × 1 hour/response); Local Law Enforcement = (4 respondents × 1 hour/response). Twenty-four experts will be interviewed. The experts will come from various agencies across the country in the identified specialized areas. These twenty-four telephone interviews will be conducted by RAND researchers: Dr. Andres Villaveces and Liisa Ecola. For the online Delphi panel, we will select 8 experts to participate based upon our knowledge of the person(s) with the required expertise. These person(s) will likely be employed by academia or a public agency (i.e. CDC or National Highway Traffic Safety Administration (NHTSA))

There are no costs to respondents other than their time.

Total annualized burden hours are 32.

Estimated Annualized Burden Hours
Type of respondent | Form name | Number of respondents | Number of responses per respondent | Average burden per response (hours)
Public Safety Advocacy Groups | Semi-Structured Interviews | 4 | 1 | 1
DWI/DUI Defense Attorneys | Semi-Structured Interviews | 4 | 1 | 1
Court Case Managers | Semi-Structured Interviews | 4 | 1 | 1
State Parole Agencies | Semi-Structured Interviews | 2 | 1 | 1
State Depts. of Public Safety | Semi-Structured Interviews | 6 | 1 | 1
Local Law Enforcement | Semi-Structured Interviews | 4 | 1 | 1
Academic Researchers | Discussion Guide-Online Expert Panel | 3 | 1 | 1
CDC Staff | Discussion Guide-Online Expert Panel | 3 | 1 | 1
National Highway Traffic Safety Administration (NHTSA) Staff | Discussion Guide-Online Expert Panel | 2 | 1 | 1

Dated: February 5, 2013.
Ron A. Otten,
Director, Office of Scientific Integrity (OSI), Office of the Associate Director for Science (OADS), Office of the Director, Centers for Disease Control and Prevention.

[FR Doc. 2013-03003 Filed 2-8-13; 8:45 am]

BILLING CODE 4163-18-P